DEPARTMENT OF COMMERCE

Minority Business Development Agency

[Docket No.: 161012956-6956-01]

Notice and Request for Comments: Minority Business Development Agency (MBDA) Tribal Consultations

AGENCY: Minority Business Development Agency, Department of Commerce.

ACTION: Notice.

SUMMARY: The Minority Business Development Agency (MBDA) plans to conduct five tribal consultation meetings with federally recognized tribes, American Indian and Alaska Native business/trade/economic organizations, and American Indian and Alaska Native-owned firms, between November 2016 and February 2017. The purpose of these tribal consultations is to provide a venue for tribal leaders share insights, make recommendations, and discuss concerns regarding MBDA's business development and entrepreneurial services in Indian Country. MBDA is also accepting written comments related to the business development issues stated in this notice.

DATES: Tribal consultations will be conducted in different locations between November 2016 and February 2017. The specific dates, locations and times will be announced on the MBDA Web site at http://www.mbda.gov/tribalconsult . Written comments in response to the questions posed in this notice must be submitted no later than January 30, 2017.

ADDRESSES: You may submit comments, identified by MBDA-2016-0001, by the following methods: Electronic Submission: Submit all electronic public comments via the Federal e-Rulemaking Portal. Go to www.regulations.gov/docket?D=MBDA-2016-001, click the “Comment Now!” icon, complete the required fields, and enter or attach your comments; Mail: Submit written comments to Bridget Gonzales, Chief, Office of Legislative, Education and Intergovernmental Affairs, Minority Business Development Agency, 1401 Constitution Avenue NW., Room 5067, Washington, DC 20230.

FOR FURTHER INFORMATION CONTACT: Melvin Tabilas, Legislative and Intergovernmental Affairs Specialist, Office of Legislative, Education and Intergovernmental Affairs, Minority Business Development Agency, at (202) 482-5598; or by email at mtabilas@mbda.gov.

SUPPLEMENTARY INFORMATION:

I. Background

The Minority Business Development Agency's (MBDA) Office of Legislative and Intergovernmental Affairs (OLEIA) serves as the focal point for consultation with Tribal governments and Tribal organizations on policy, regulatory and legislative issues that will have a direct impact on American Indian and Alaska Native (AIAN) communities. The tribal consultations will be conducted in conjunction with the MBDA's Office of Business Development (OBD) which designs and manages the business development services available to Native American entrepreneurs and tribally-owned businesses. Outreach and business development support specific to the AIAN populations is one part of the overall efforts of MBDA to ensure all programs and services of the Agency are available to members of the tribal communities.

MBDA is the only Federal agency created specifically to foster the establishment and growth of minority business enterprises (MBEs). MBDA actively promotes the strategic growth and expansion of MBEs by offering management and technical assistance through a nationwide network of business centers. All MBDA Business Centers serve businesses owned or controlled by persons or groups of persons from the following groups: American Indians and Native Americans (including Alaska Natives, Alaska Native Corporations, Tribal entities, Tribal universities and Tribal governments), African Americans, Asian Indian Americans, Asian and Pacific Islander Americans, Hasidic Jewish Americans, and Hispanic Americans. MBDA target clients are businesses with $1.0 million or more in revenues.

The MBDA Business Centers provide services that include, but are not limited to, initial consultations and assessments, business technical assistance, and access to federal and non-federal procurement and financing opportunities. Specific performance requirements and metrics are used by MBDA to evaluate each business center and are a key component of the MBDA's business development programs.

During fiscal year 2016, MBDA provided dedicated outreach to the AIAN population through the operation of six MBDA Business Centers—AIAN in the following locations: Fresno, California; Santa Fe, New Mexico; Tulsa, Oklahoma; Bismarck, North Dakota; Anchorage, Alaska; and Bridgeport, Connecticut. For more details about the current goals and objectives of the MBDA Business Centers—AIAN, please see the Federal Funding Opportunity notice that was issued in 2012 at http://www.mbda.gov/tribalconsult.

Funding for the current MBDA Business Center—AIAN program will expire in August 2017. MBDA expects to renew its investment in Indian Country and has designed the tribal consultations to allow tribal governments and organizations an opportunity to provide information on how to better provide business development services and programs. The locations and approximate dates, and times of the meetings are provided below in Supplementary Information. The specific dates and times will be posted on MBDA's Web site at http://www.mbda.gov/tribalconsult. The meetings are open to members of federally recognized tribes. In consideration of tribal leaders who are not able to attend a tribal consultation meeting, MBDA is also accepting written comments based on the questions listed below.

II. Tribal Consultation Meetings

Tribal consultation sessions are tentatively scheduled in association with the following events:

Date | Location | Event
1. Nov 1-3, 2016 | Tulsa, Oklahoma | Native American Contractors Association—Annual B2B Conference & Marketplace.
2. Nov 14-17, 2016 | Santa Fe, New Mexico | National Center for American Indian Enterprise Development—Reservation Economic Summit (RES) New Mexico.
3. November 14-17, 2016 | Minneapolis, MN | Long Term Services and Supports in Indian Country Conference.

Details about each Tribal consultation meeting will be posted on the MBDA Web site at: http://www.mbda.gov/tribalconsult. The MBDA Tribal consultation meetings are being hosted by the U.S. Federal Government. They are open and public meetings. They will be tape-recorded and transcribed so that we can retain valuable input and feedback. Registration for the non-governmental organization conferences is not mandatory to participate in in the MBDA Tribal consultations.

III. Questions for Public Comment

Comments may be provided in response to any or all of the following questions. Please identify the specific AIAN community represented by the comments (e.g., Cherokee Nation, Alaska Native village, Native American businesses off reservation, tribally-owned businesses):

1. Describe any self-governance entrepreneurial or business development programs that have resulted in positive impacts to your community's economic development? What were the impacts and how did they come about?

2. What challenges exist to business development and job creation in AIAN communities? What ideas or solutions do you think would address these challenges?

3. What are your goals and priorities for advancing AIAN entrepreneurship and business development?

4. What are some best practices that you've seen implemented that positively address the business development challenges experienced by your community from either a self-governing perspective, and/or from Federal, state, or local programs?

5. Have you (or businesses from your Tribe/Tribal organization) been a client of a MBDA Business Center—AIAN?

a. If so, please describe the services and activities that have been most beneficial to growing their business and/or creating jobs:

1. Access to private sector contracts;

2. Access to Federal/State or Municipal contracts;

3. Access to capital;

4. Exporting;

5. Joint partnerships/teaming arrangements;

6. Other.

b. If you or your business have not been a client of a MBDA Business Center, please state reasons why, if any?

6. Do the goals and objectives of the MBDA Business Centers—AIAN align with your Tribe's business and economic development goals? If so, please elaborate. If not, please provide recommendations for improvements, enhancements or alternatives.

Comments must include the following: Name and title of commenter, name of tribe, tribal organization or business, AIAN location (if applicable), city, and state.

Dated: November 2, 2016.
Josephine Arnold,
Chief Counsel, Minority Business Development Agency.

[FR Doc. 2016-26832 Filed 11-4-16; 8:45 am]

BILLING CODE P